DEPARTMENT OF VETERANS AFFAIRS

38 CFR Part 4

RIN 2900-AP88

Schedule for Rating Disabilities: Musculoskeletal System and Muscle Injuries; Correction

AGENCY: Department of Veterans Affairs.

ACTION: Final rule; correction.

SUMMARY: The Department of Veterans Affairs (VA) is making correcting amendments to the final rule published on November 30, 2020. The final rule amends the Department of Veterans Affairs (VA) Schedule for Rating Disabilities (“VASRD” or “rating schedule”) by revising the portion of the rating schedule that addresses the musculoskeletal system.

DATES: Effective February 7, 2021.

FOR FURTHER INFORMATION CONTACT: Gary Reynolds, M.D., Regulations Staff (211C), Compensation Service, Veterans Benefits Administration, Department of Veterans Affairs, 810 Vermont Avenue NW, Washington, DC 20420, (202) 461-9700. (This is not a toll-free number.)

SUPPLEMENTARY INFORMATION: VA is correcting its final rule, “RIN 2900-AP88; Schedule for Rating Disabilities: Musculoskeletal System and Muscle Injuries”, that was published on November 30, 2020, in the Federal Register at 85 FR 76453. The error is with the diagnostic code used to evaluate plantar fasciitis in schedule for ratings of the foot under the Schedule of Ratings for the Musculoskeletal System. A new diagnostic code for plantar fasciitis was assigned in the final rule under diagnostic code 5285; however, this code was previously used to evaluate “vertebra, fracture of, residuals” and later “vertebral fracture or dislocation” in the General Rating Formula for Diseases and Injuries of the Spine in the Schedule for Rating for the spine until September 26, 2003 when it was moved under diagnostic code 5235, “vertebral fracture or dislocation.” See 68 FR 51454 and 67 FR 56509. Though vertebral fracture or dislocation is now evaluated using diagnostic code 5235, VA's corporate database still uses historical diagnostic code 5285 to compensate veterans for residuals of fractures of the vertebra who have not yet been converted to the current diagnostic code 5235. In order to avoid any issues with the use of the new diagnostic code for plantar fasciitis under 5285 and the historical diagnostic code 5285 previously used to evaluate residuals of spinal fractures, VA assigns a new diagnostic code for plantar fasciitis under diagnostic code 5269. As such, we are also redesignating the entire entry for plantar fasciitis from diagnostic codes 5285 to 5269, though we are maintaining its location in § 4.71a in the table entitled “The Foot” between diagnostic codes 5284 and 5296.

Corrections

In FR Doc. 2020-25450 appearing on page 76453 in the Federal Register of Monday, November 30, 2020, the following corrections are made:

§ 4.71a [Corrected]

1. On page 76460, in the third column, in § 4.71a, the text of amendatory instruction 2.e. “Adding the diagnostic code 5244 to the table entitled “The Spine” and the diagnostic code 5285 to the table entitled “The Foot”” is corrected to read “Adding the diagnostic code 5244 in numerical order to the table entitled “The Spine” and the diagnostic code 5269 in numerical order to the table entitled “The Foot””.

§ 4.71a [Corrected]

2. On page 76464, in § 4.71a, the entry for diagnostic code 5269 is added and the entry for diagnostic code 5285 is removed to read as follows:

§ 4.71a Schedule of ratings—musculoskeletal system.

* * * * *

The Foot
| Rating
5269 Plantar fasciitis:
No relief from both non-surgical and surgical treatment, bilateral | 30
No relief from both non-surgical and surgical treatment, unilateral | 20
Otherwise, unilateral or bilateral | 10
Note (1): With actual loss of use of the foot, rate 40 percent
Note (2): If a veteran has been recommended for surgical intervention, but is not a surgical candidate, evaluate under the 20 percent or 30 percent criteria, whichever is applicable
* * * * * * *

* * * * *

Appendix A to Part 4 [Corrected]

3. On page 76464, in the second column, in appendix A to part 4, the text of amendatory instruction 4.c. “In § 4.71a, add in numerical order diagnostic codes 5009, 5010, 5011, 5013, 5014, 5015, 5018, 5020, 5022, 5023, 5120, 5160, 5170, 5201, 5202, 5235, 5236, 5237, 5238, 5239, 5240, 5241, 5242, 5244, 5262, 5271, and 5285” is corrected to read “In § 4.71a, add in numerical order diagnostic codes 5009, 5010, 5011, 5013, 5014, 5015, 5018, 5020, 5022, 5023, 5120, 5160, 5170, 5201, 5202, 5235, 5236, 5237, 5238, 5239, 5240, 5241, 5242, 5244, 5262, 5269, and 5271”.

Appendix A to Part 4 [Corrected]

4. On page 76465, in appendix A to part 4, the entry 5269 is added in numerical order and the entry 5285 is removed to read as follows:

Appendix A to Part 4—Table of Amendments and Effective Dates Since 1946

Sec. | Diagnostic code No. |
* * * * * * *
| 5269 | Added February 7, 2021.
* * * * * * *

Appendix B to Part 4 [Corrected]

5. On page 76466, in the second column, the text of amendatory instruction 5.b. “Add diagnostic codes 5244, 5285, 5330, and 5331” is corrected to read “Add diagnostic codes 5244, 5269, 5330, and 5331”.

Appendix B to Part 4 [Corrected]

6. On page 76467, in appendix B to part 4, remove the entry for 5285 and add the entry 5269 in its place to read as follows:

Appendix B to Part 4—Numerical Index of Disabilities

Diagnostic code No. |
* * * * * * *
The Foot
* * * * * * *
5269 | Plantar fasciitis.
* * * * * * *

Appendix C to Part 4 [Corrected]

7. On page 76468, in appendix C to part 4, the entry for “Plantar fasciitis” is corrected to read as follows:

Appendix C to Part 4—Alphabetical Index of Disabilities

| Diagnostic code No.
* * * * * * *
Plantar fasciitis | 5269
* * * * * * *

Jeffrey M. Martin,
Assistant Director, Office of Regulation Policy & Management, Office of the Secretary, Department of Veterans Affairs.

[FR Doc. 2021-01289 Filed 2-3-21; 8:45 am]

BILLING CODE 8320-01-P